DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (OFAC) is publishing the names of seven individuals, eight entities, and one vessel whose property and interests in property have been unblocked pursuant to the Foreign Narcotics Kingpin Designation Act (Kingpin Act) (21 U.S.C. 1901-1908, 8 U.S.C. 1182). Additionally, OFAC is publishing an update to the identifying information of one entity currently included in the list of Specially Designated Nationals and Blocked Persons (SDN List).

DATES: The unblocking and removal from the SDN List of the individuals, entities, and vessel identified in this notice whose property and interests in property were blocked pursuant to the Kingpin Act, is effective on April 4, 2016. Additionally, the update to the SDN List of the identifying information of the entity identified in this notice is also effective on April 4, 2016.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On April 4, 2016, the Associate Director of the Office of Global Targeting removed from the SDN List the individuals, entities, and vessel listed below, whose property and interests in property were blocked pursuant to the Kingpin Act.

Individuals

1. JOUMAA, Mohamad Said (a.k.a. JOMAA, Mohamed Said), Lebanon; DOB 06 Apr 1977; POB Lala, Lebanon; Cedula No. 84076630 (Colombia) (individual) [SDNTK].

2. JOUMAA, Anwar Saied (a.k.a. JOMAA, Anmar; a.k.a. JOMAA, Anwar Said), Lebanon; POB Al Karouan, Lebanon; nationality Lebanon; Cedula No. 84072009 (Colombia); Passport 392065 (Panama) (individual) [SDNTK].

3. JOUMAA, Akram Saied (a.k.a. JOMAA YOUSSEF, Akram Said), Lebanon; DOB 07 Jun 1956; POB Al Karouan, Lebanon; nationality Lebanon; Passport 11869936 (Venezuela); RUC # 3-NT-1-6255 (Panama) (individual) [SDNTK].

4. SANCHEZ GONZALEZ, Ernesto, Av. Vallarta 3216, Colonia Vallarta San Jorge, Guadalajara, Jalisco, Mexico; DOB 03 Feb 1967; POB Tepatitlan de Morelos, Jalisco, Mexico; R.F.C. SAGE670203KH4 (Mexico); C.U.R.P. SAGE670203HJCNNR06 (Mexico) (individual) [SDNTK] (Linked To: GRUPO FRACSA, S.A. DE C.V.; Linked To: DBARDI, S.A. DE C.V.; Linked To: CONSTRUCTORA ACANTU, S.A. DE C.V.; Linked To: GRUPO ISAYAS, S.A. DE C.V.; Linked To: GRUPO INMOBILIARIO OCSA, S.A. DE C.V.).

5. SANCHEZ GONZALEZ, Fernando; DOB 24 Sep 1969; POB Jalisco, Mexico; R.F.C. SAGF690924JU7 (Mexico); C.U.R.P. SAGF690924HJCNNR09 (Mexico) (individual) [SDNTK] (Linked To: CONSTRUCTORA ACANTU, S.A. DE C.V.; Linked To: GRUPO INMOBILIARIO OCSA, S.A. DE C.V.; Linked To: INMOBILIARIA ASYSA, S.A. DE C.V.; Linked To: GRUPO ISAYAS, S.A. DE C.V.; Linked To: DBARDI, S.A. DE C.V.; Linked To: GRUPO FRACSA, S.A. DE C.V.).

6. SANCHEZ GONZALEZ, Javier, Av. Vallarta No. 3216, Guadalajara, Jalisco, Mexico; DOB 15 May 1971; POB Jalisco, Mexico; R.F.C. SAGJ7105156K9 (Mexico); C.U.R.P. SAGJ710515HJCNNV02 (Mexico) (individual) [SDNTK] (Linked To: INMOBILIARIA ASYSA, S.A. DE C.V.; Linked To: CARIATIDE GRUPO INMOBILIARIO, S.A. DE C.V.; Linked To: DBARDI, S.A. DE C.V.; Linked To: GRUPO FRACSA, S.A. DE C.V.).

7. SANCHEZ GONZALEZ, Jose, Av. Vallarta No. 3216, Col. Vallarta San Jorge, Guadalajara, Jalisco, Mexico; DOB 30 Sep 1962; POB Jalisco, Mexico; R.F.C. SAGJ620930MG0 (Mexico); C.U.R.P. SAGJ620930HJCNNS03 (Mexico) (individual) [SDNTK] (Linked To: GRUPO INSA, S.A. DE C.V.; Linked To: CONSTRUCTORA ACANTU, S.A. DE C.V.; Linked To: GRUPO INMOBILIARIO OCSA, S.A. DE C.V.; Linked To: INMOBILIARIA GORSA, S.A. DE C.V.; Linked To: INMOBILIARIA ASYSA, S.A. DE C.V.; Linked To: GRUPO ISAYAS, S.A. DE C.V.; Linked To: INMOBILIARIA NOVSA, S.A. DE C.V.; Linked To: DBARDI, S.A. DE C.V.; Linked To: GRUPO FRACSA, S.A. DE C.V.).

Entities

1. CONSTRUCTORA ACANTU, S.A. DE C.V., Av. Vallarta No. 3216, Col. Vallarta San Jorge, Guadalajara, Jalisco 44690, Mexico; R.F.C. CAC931015UC2 (Mexico) [SDNTK] (Linked To: SANCHEZ GONZALEZ, Ernesto; Linked To: SANCHEZ GONZALEZ, Jose; Linked To: SANCHEZ GONZALEZ, Fernando).

2. GRUPO INMOBILIARIO OCSA, S.A. DE C.V., Av. Vallarta No. 3216, Col. Vallarta San Jorge, Guadalajara, Jalisco 44690, Mexico; R.F.C. GIO050907D57 (Mexico) [SDNTK] (Linked To: SANCHEZ GONZALEZ, Jose; Linked To: SANCHEZ GONZALEZ, Fernando).

3. GRUPO INSA, S.A. DE C.V. (a.k.a. INSA: GRUPO INMOBILIARIO, S.A. DE C.V.), Av. Vallarta No. 3216, Col. Vallarta San Jorge, Guadalajara, Jalisco 44690, Mexico; R.F.C. GIN050207A76 (Mexico) [SDNTK] (Linked To: SANCHEZ GONZALEZ, Jose).

4. GRUPO ISAYAS, S.A. DE C.V., Av. Vallarta No. 3216, Col. Vallarta San Jorge, Guadalajara, Jalisco 44690, Mexico; R.F.C. GIS040527T58 (Mexico) [SDNTK] (Linked To: SANCHEZ GONZALEZ, Jose; Linked To: SANCHEZ GONZALEZ, Fernando).

5. INMOBILIARIA ASYSA, S.A. DE C.V., Av. Vallarta No. 3216, Col. Vallarta San Jorge, Guadalajara, Jalisco, Mexico; R.F.C. IAS050907A14 (Mexico) [SDNTK] (Linked To: SANCHEZ GONZALEZ, Jose; Linked To: SANCHEZ GONZALEZ, Fernando; Linked To: SANCHEZ GONZALEZ, Javier).

6. INMOBILIARIA GORSA, S.A. DE C.V., Av. Vallarta No. 3216, Col. Vallarta San Jorge, Guadalajara, Jalisco 44690, Mexico; R.F.C. IGO060407J63 (Mexico) [SDNTK] (Linked To: SANCHEZ GONZALEZ, Jose).

7. INMOBILIARIA NOVSA, S.A. DE C.V., Av. Vallarta No. 3216, Col. Vallarta San Jorge, Guadalajara, Jalisco 44690, Mexico; R.F.C. GIN050623D21 (Mexico) [SDNTK] (Linked To: SANCHEZ GONZALEZ, Jose).

8. CAESAR'S PARK HOTEL (a.k.a. CEASAR'S PARK HOTEL; a.k.a. CEASERS PARK HOTEL), Madame Curie St., Beirut, Lebanon [SDNTK].

Vessel

1. CITY OF TOKYO (3ELV6) Panama flag; Vessel Registration Identification IMO 8709145; MMSI 636016488 (vessel) [SDNTK] (Linked To: MERHI, Merhi Ali Abou; Linked To: ABOU-MERHI LINES SAL).

Additionally, on April 4, 2016, the Associate Director of the Office of Global Targeting updated the SDN List for one entity listed below, whose property and interests in property continue to be blocked pursuant to the Kingpin Act.

1. CARIATIDE GRUPO INMOBILIARIO, S.A. DE C.V., Av. Vallarta No. 3216, Col. Vallarta San Jorge, Guadalajara, Jalisco 44690, Mexico; R.F.C. CGI0501197ST (Mexico) [SDNTK]. (Linked to SANCHEZ GONZALEZ, Javier)

-to-

CARIATIDE GRUPO INMOBILIARIO, S.A. DE C.V., Av. Vallarta No. 3216, Col. Vallarta San Jorge, Guadalajara, Jalisco 44690, Mexico; R.F.C. CGI0501197ST (Mexico) [SDNTK].

Dated: April 4, 2016.
Gregory T. Gatjanis,
Associate Director, Office of Global Targeting, Office of Foreign Assets Control.

[FR Doc. 2016-07980 Filed 4-6-16; 8:45 am]

BILLING CODE 4810-AL-P